DEPARTMENT OF HOMELAND SECURITY

Coast Guard

33 CFR Part 117

[CGD05-03-050]

RIN 1625-AA-09

Drawbridge Operation Regulations; Great Channel Between Stone Harbor and Nummy Island, NJ

AGENCY: Coast Guard, DHS.

ACTION: Temporary final rule.

SUMMARY: The Commander, Fifth Coast Guard District, is temporarily changing the regulations governing the operation of the Cape May Bridge across Great Channel at mile 0.7 between Stone Harbor and Nummy Island, New Jersey. The bridge area will be closed to navigation beginning 8 a.m. on October 16, 2003, through 11 p.m. on May 14, 2004. This closure is necessary to facilitate extensive mechanical rehabilitation and to maintain the bridge's operational integrity.

DATES: This temporary rule is effective from 8 a.m. on October 16, 2003, to 11 p.m. on May 14, 2004.

ADDRESSES: Comments and materials received from the public, as well as documents indicated in this preamble as being available in the docket, are part of docket (CGD05-03-050) and are available for inspection or copying at the Commander (oan-b), Fifth Coast Guard District, Federal Building, 4th Floor, 431 Crawford Street, Portsmouth, Virginia 23703-5004, between 8 a.m. and 4 p.m., Monday through Friday, except Federal holidays.

FOR FURTHER INFORMATION CONTACT: Linda L. Bonenberger, Bridge Management Specialist, Fifth Coast Guard District, at (757) 398-6227.

SUPPLEMENTARY INFORMATION:

Regulatory History

On June 11, 2003, we published a notice of proposed rulemaking (NPRM) entitled “Drawbridge Operation Regulations; Great Channel Between Stone Harbor and Nummy Island, New Jersey” in the Federal Register (68 FR 34877). We received no comments on the proposed rule. No public hearing was requested nor held.

Good Cause for Making Rule Effective in Less Than 30 Days

Under 5 U.S.C. 553(d)(3), the Coast Guard finds that good cause exists for making this rule effective less than 30 days after publication in the Federal Register. A 30 day delayed effective date is unnecessary because the bridge in question has not opened for vessel traffic in over five years, and has only opened twice in the last nine years. Further, there were no public comments during the 60-day comment period, and mariners have alternative routes around this drawbridge during the temporary closure.

Background and Purpose

Cape May County Department of Public Works (CMC) owns and operates the County of Cape May Bridge across Great Channel. The bridge is located between Stone Harbor and Nummy Island, New Jersey. The current regulations set out in 33 CFR 117.720 require the draw to open on signal except from May 15 through October 15 from 10 p.m. to 6 a.m., the draw need only open if at least four hours notice has been given. From October 16 through May 14, the draw need only open if at least 24 hours notice has been given.

Agate Construction Company, on behalf of CMC, has requested a temporary change to the existing regulations for the County of Cape May Bridge to facilitate necessary repairs. The repairs consist of extensive mechanical rehabilitation of the bascule span. To facilitate the repairs, the bascule span will be locked in the closed position to vessels from 8 a.m. on October 15, 2003, through 11 p.m. on May 14, 2004.

The Coast Guard reviewed the bridge logs for the last 10 years. From October 16 to May 14, the current regulation requires the draw need only open if at least 24 hours notice is given. From 1993 to 2002, the drawlogs revealed only two openings were provided between October 15 and May 14. The earliest and latest opening dates occurred May 15, 1998, and November 6, 1994, respectively. Also, the bridge is not landlocked on either side of Great Channel providing alternate vessel access to the Atlantic Ocean, to the south, and to the New Jersey Intracoastal Waterway, to the north. Therefore, vessels will not be negatively impacted by this proposal.

Regulatory Evaluation

The rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

This conclusion was based on the fact that the change will have a very limited impact on maritime traffic transiting this area. Mariners can plan their transits by using alternate routes to gain access to larger bodies of water.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

The rule will not have a significant economic impact on a substantial number of small entities because even though the rule closes this small area to mariners, they will not be land-locked at either end and will be able to plan their transits by using available alternate routes.

Assistance for Small Entities

Under section 213(a) of the Small Business Regulatory Enforcement Fairness Act of 1966 (Pub. L. 104-121), we offered to assist small entities in understanding the rule so that they can better evaluate its effects on them and participate in the rulemaking. In our notice of proposed rulemaking, we provided a point of contact to small entities who could answer questions concerning proposed provisions or options for compliance.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in section 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a State of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation because this rule temporarily changes the operating regulations for a drawbridge.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499, Department of Homeland Security Delegation No. 0170.1; 33 CFR 1.05-1(g); section 117.255 also issued under the authority of Pub. L. 102-587, 106 Stat. 5039.

2. From October 16, 2003, through May 14, 2004, § 117.720(b) is temporarily suspended and a new paragraph (c) is added to read as follows:

§ 117.720 Great Channel

* * * * *

(c) From 8 a.m. on October 16, 2003, until 11 p.m. on May 14, 2004, the draw of the County of Cape May Bridge, mile 0.7, between Stone Harbor and Nummy Island need not open for the passage of vessels.

Dated: October 16, 2003.
Ben R. Thomason III,
Captain, U.S. Coast Guard, Acting Commander, Fifth Coast Guard District.

[FR Doc. 03-27126 Filed 10-27-03; 8:45 am]

BILLING CODE 4910-15-P